DEPARTMENT OF HOMELAND SECURITY

Federal Emergency Management Agency

44 CFR Part 67

[Docket No. FEMA-2015-0001; Internal Agency Docket No. FEMA-B-1145]

Proposed Flood Elevation Determinations

AGENCY: Federal Emergency Management Agency, DHS.

ACTION: Proposed rule; correction.

SUMMARY: On October 7, 2010, and June 13, 2014, FEMA published in the Federal Register a proposed rule and a proposed rule correction, respectively, that contained erroneous information. This notice provides corrections to the table as amended by the proposed rule correction, to be used in lieu of the information published at 75 FR 62062-62063 and 79 FR 33878-33879. The table provided here represents the flooding sources, location of referenced elevations, effective and modified elevations, and communities affected for Clay County, Arkansas, and Incorporated Areas. Specifically, it addresses the following flooding sources: Cypress Creek Ditch and Sugar Creek and Tributary 2.

DATES: Comments are to be submitted on or before September 8, 2015.

ADDRESSES: You may submit comments, identified by Docket No. FEMA-B-1145, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

In the proposed rule published at 75 FR 62062-62063, in the October 7, 2010, issue of the Federal Register, FEMA published a table under the authority of 44 CFR 67.4. That table was amended by the proposed rule correction published at 79 FR 33878-33879, in the June 13, 2014, issue of the Federal Register. In this document, FEMA is publishing a table containing the accurate information, to address previous inaccuracies. The information provided below should be used in lieu of that previously published.

Correction

This proposed rule provides corrections to the table as amended by the proposed rule correction, to be used in lieu of the information previously published. Correct the Clay County, Arkansas table as follows.

(Catalog of Federal Domestic Assistance No. 97.022, “Flood Insurance.”)

Dated: May 21, 2015.
Roy E. Wright,
Deputy Associate Administrator for Mitigation, Department of Homeland Security, Federal Emergency Management Agency.

Flooding source(s) | Location of referenced elevation * * | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Clay County, Arkansas, and Incorporated Areas
Cypress Creek Ditch | Approximately 150 feet east of Southwest 11th Street to approximately 400 feet east of Southwest 11th Street | None | +281 | City of Corning.
| Approximately 120 feet south of Lucien Avenue to approximately 580 feet north of Lucien Avenue | None | +281
Cypress Creek Ditch | Approximately 100 feet north of Bryan Avenue to approximately 160 feet south of Bryan Street | None | +281 | City of Corning.
| Approximately 430 feet west of Southwest 6th Street to approximately 600 feet west of Southwest 6th Street | None | +281
Sugar Creek | Approximately 1,255 feet downstream of Pfeiffer Street | None | +282 | Unincorporated areas of Clay County.
| Approximately 0.57 mile upstream of the confluence with Club Drain | None | +317
Tributary 2 | Approximately 1,350 feet upstream of West Jackson Street | None | +329 | Unincorporated areas of Clay County.
National Geodetic Vertical Datum.
+ North American Vertical Datum.
# Depth in feet above ground.
‸ Mean Sea Level, rounded to the nearest 0.1 meter.
* * BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Corning
Maps are available for inspection at City Hall, 304 Southwest 2nd Street, Corning, AR 72422.
Unincorporated Areas of Clay County
Maps are available for inspection at the Clay County Courthouse, 168 East Main Street, Piggott, AR 72454.

[FR Doc. 2015-13863 Filed 6-5-15; 8:45 am]

BILLING CODE 9110-12-P